ENVIRONMENTAL PROTECTION AGENCY

[EPA-HQ-OPP-2012-0019; FRL-9355-4]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period January 1 to March 31, 2012, to control unforeseen pest outbreaks.

FOR FURTHER INFORMATION CONTACT: See each emergency exemption for the name of a contact person. The following information applies to all contact persons: Team Leader, Emergency Response Team, Registration Division (7505P), Office of Pesticide Programs, Environmental Protection Agency, 1200 Pennsylvania Ave. NW., Washington, DC 20460-0001; telephone number: (703) 308-8050.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the emergency exemption of interest.

B. How can I get copies of this document and other related information?

The docket for this action, identified by docket identification (ID) number EPA-HQ-OPP-2012-0019, is available at http://www.regulations.gov or at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, and the duration of the exemption. EPA also gives the Federal Register citation for the time-limited tolerance, if any.

III. Emergency Exemptions

California

Department of Pesticide Registration

Specific exemption: EPA authorized the use of mancozeb on walnuts to control bacterial blight (Xanthomonas campestris pv. Juglandis) on walnuts; February 17, 2012 to June 15, 2012. Contact: Libby Pemberton.

Delaware

Department of Agriculture

Specific exemptions: EPA authorized the use of hop beta acids in beehives to control varroa mite; January 12, 2012 to December 31, 2012. Contact: Stacey Groce.

Specific exemption: EPA authorized the use of thiabendazole on mushroom spawn and supplement to control green mold (Trichoderma aggressivum); February 13, 2012 to January 13, 2013. Contact: Andrea Conrath.

Florida

Department of Agriculture and Consumer Services

Crisis exemption: EPA authorized the use of spirotetramat on watercress to control aphids; February 2, 2012 to June 30, 2012. Contact: Keri Grinstead.

Specific exemptions: EPA authorized the use of metconazole on sugarcane to control Orange Rust (Puccinia kuehnii); January 11, 2012 to January 11, 2013. Contact: Libby Pemberton.

EPA authorized the use of pyraclostrobin on sugarcane to control Orange Rust (Puccinia kuehnii); January 11, 2012 to January 11, 2013. Contact: Libby Pemberton. Quarantine exemption: EPA authorized the use of naled in a bait treatment to eradicate non-native and invasive Tephritid fruit flies which are responsive to the attractant, methyl eugenol; March 6, 2012 to March 6, 2015. Contact: Debra Rate.

Georgia

Department of Agriculture

Specific exemption: EPA authorized the use of hop beta acids in beehives to control varroa mite; February 17, 2012 to December 31, 2012. Contact: Stacey Groce.

Hawaii

Department of Agriculture

EPA authorized the use of hop beta acids in beehives to control varroa mite; January 20, 2012 to December 31, 2012. Contact: Stacey Groce.

Idaho

Department of Agriculture

Specific exemptions: EPA authorized the use of spirotetramat on dry bulb onions to control thrips and Iris Yellow Spot Virus; January 27, 2012 to September 15, 2012. Contact: Keri Grinstead.

EPA authorized the use of linuron on lentils to control dog fennel and prickly lettuce; March 2, 2012 to June 30, 2012. Contact: Andrea Conrath.

Kentucky

Department of Agriculture

Specific exemptions: EPA authorized the use of hop beta acids in beehives to control varroa mite; February 1, 2012 to December 31, 2012. Contact: Stacey Groce.

Louisiana

Department of Agriculture and Forestry

Specific exemptions: EPA authorized the use of anthraquinone on corn, field and sweet, seed, to repel blackbird species and cowbirds; February 22, 2012 to February 24, 2013. Contact: Stacey Groce.

EPA authorized the use of hop beta acids in beehives to control varroa mite; March 16, 2012 to December 31, 2012. Contact: Stacey Groce.

EPA authorized the use of pyraclostrobin on sugarcane to control Brown Rust (Puccinia melanocephala); March 22, 2012 to June 30, 2012. Contact: Libby Pemberton. Quarantine exemptions: EPA authorized the use of pyraclostrobin on sugarcane to control Orange Rust (Puccinia kuehnii); March 27, 2012 to December 31, 2014. Contact: Libby Pemberton.

EPA authorized the use of metconazole on sugarcane to control Orange Rust (Puccinia kuehnii); March 27, 2012 to December 31, 2014. Contact: Libby Pemberton.

Maryland

Department of Agriculture

Specific exemptions: EPA authorized the use of thiabendazole on mushroom spawn and supplement to control green mold (Trichoderma aggressivum); February 17, 2012 to January 13, 2013. Contact: Andrea Conrath.

EPA authorized the use of hop beta acids in beehives to control varroa mite; February 17, 2012 to December 31, 2012. Contact: Stacey Groce.

Michigan

Department of Agriculture

Specific exemptions: EPA authorized the use of spirotetramat on dry bulb onions to control thrips and Iris Yellow Spot Virus; February 3, 2012 to March 31, 2012. Contact: Keri Grinstead.

EPA authorized the use of anthraquinone on corn, field and sweet, seed, to repel sandhill crane; February 8, 2012 to February 8, 2013. Contact: Stacey Groce.

EPA authorized the use of kasugamycin on apples to control fire blight; March 9, 2012 to May 31, 2012. Since the applicant proposed the use of a new chemical which has not been registered by EPA, a notice of receipt was published in the Federal Register on January 6, 2012 (77 FR 791) (FRL-9331-6). The rationale for the emergency approval of this use is that kasugamycin is needed to control streptomycin-resistant strains of Erwinia amylovora, the causal pathogen of fire blight, due to the lack of available alternatives and effective control practices. Without the use of kasugamycin and if weather conditions are present which favor a fire blight epidemic, it is likely that Michigan apple growers could suffer yield losses of 50% or more. Contact: Keri Grinstead.

Minnesota

Department of Agriculture

Specific exemptions: EPA authorized the use of spirotetramat on dry bulb onions to control thrips and Iris Yellow Spot Virus; January 27, 2012 to September 15, 2012. Contact: Keri Grinstead.

EPA authorized the use of hop beta acids in beehives to control varroa mite; February 1, 2012 to December 31, 2012. Contact: Stacey Groce.

Mississippi

Department of Agriculture

Specific exemption: EPA authorized the use of anthraquinone on corn, field and sweet, seed, to repel blackbird species and cowbirds; March 13, 2012 to March 13, 2013. Contact: Stacey Groce.

Missouri

Department of Agriculture

Specific exemption: EPA authorized the use of hop beta acids in beehives to control varroa mite; March 7, 2012 to December 31, 2012. Contact: Stacey Groce.

Nebraska

Department of Agriculture

Specific exemption: EPA authorized the use of hop beta acids in beehives to control varroa mite; February 1, 2012 to December 31, 2012. Contact: Stacey Groce.

Nevada

Department of Agriculture

Specific exemption: EPA authorized the use of spirotetramat on dry bulb onions to control thrips and Iris Yellow Spot Virus; February 17, 2012 to September 30, 2012. Contact: Keri Grinstead.

New York

Department of Environmental Conservation

Specific exemption: EPA authorized the use of spirotetramat on dry bulb onions to control thrips and Iris Yellow Spot Virus; January 17, 2012 to September 15, 2012. Contact: Keri Grinstead.

Oklahoma

Department of Agriculture

Specific exemption: EPA authorized the use of hop beta acids in beehives to control varroa mite; March 22, 2012 to December 31, 2012. Contact: Stacey Groce.

Oregon

Department of Agriculture

Specific exemptions: EPA authorized the use of fenoxyprop-p-ethyl on grasses grown for seed to control various grassy weeds; February 17, 2012 to September 15, 2012. In accordance with 40 CFR 180.24, a notice of receipt published in the Federal Register on January 18, 2012, to allow for public comment since the request proposed a use which is IR-4-supported, has been requested in 5 or more previous years, and a petition for tolerance has not been submitted to the Agency. The public comment period ended on February 2, 2012. No substantial comments were received. The rationale for emergency approval of this use is that no suitable herbicides are available to control grassy weeds in grass seed production and significant economic losses will occur if these weeds are not controlled. Contact: Andrea Conrath.

EPA authorized the use of spirotetramat on dry bulb onions to control thrips and Iris Yellow Spot Virus; February 17, 2012, to September 15, 2012. Contact: Keri Grinstead.

EPA authorized the use of bifenthrin on orchardgrass to control the orchardgrass billbug; March 14, 2012 to November 15, 2012. Contact: Andrea Conrath.

Pennsylvania

Department of Agriculture

Specific exemption: EPA authorized the use of thiabendazole on mushroom spawn and supplement to control green mold (Trichoderma aggressivum); January 13, 2012 to January 13, 2013. Contact: Andrea Conrath.

South Dakota

Department of Agriculture

Specific exemptions: EPA authorized the use of anthraquinone on sunflower, seed to repel ring-necked pheasant; February 17, 201, to March 3, 2013. Contact: Stacey Groce.

EPA authorized the use of anthraquinone on corn, field and sweet, seed, to repel ring-necked pheasant; February 28, 2012 to March 4, 2013. Contact: Stacey Groce.

Texas

Department of Agriculture

Specific exemptions: EPA authorized the use of flutriafol on cotton to control cotton root rot caused by Phymatotrichum omnivorum; maximum 288,000 acres; February 2, 2012 to December 31, 2012. Contact: Debra Rate.

EPA authorized the use of hop beta acids in beehives to control varroa mite; February 3, 2012 to December 31, 2012. Contact: Stacey Groce.

EPA authorized the use of dinotefuran on rice to control rice stink bug (Oebalus pugnax); March 1, 2012 to October 30, 2012. Contact: Libby Pemberton.

Utah

Department of Agriculture and Food

Specific exemptions: EPA authorized the use of spirotetramat on dry bulb onions to control thrips and Iris Yellow Spot Virus; February 17, 2012 to September 1, 2012. Contact: Keri Grinstead.

EPA authorized the use of hop beta acids in beehives to control varroa mite; March 16, 2012 to December 31, 2012. Contact: Stacey Groce.

Washington

Department of Agriculture

Specific exemptions: EPA authorized the use of spirotetramat on dry bulb onions to control thrips and Iris Yellow Spot Virus; February 13, 2012 to October 31, 2012. Contact: Keri Grinstead.

EPA authorized the use of linuron on lentils to control dog fennel and prickly lettuce; March 2, 2012 to June 30, 2012. Contact: Andrea Conrath.

West Virginia

Department of Agriculture

Specific exemption: EPA authorized the use of hop beta acids in beehives to control varroa mite; February 3, 2012 to December 31, 2012. Contact: Stacey Groce.

List of Subjects

Environmental protection, Pesticides and pests.

Dated: July 16, 2012.
Daniel J. Rosenblatt,
Acting Director, Registration Division, Office of Pesticide Programs.

[FR Doc. 2012-18066 Filed 7-24-12; 8:45 am]

BILLING CODE 6560-50-P